DEPARTMENT OF COMMERCE

International Trade Administration

[A-583-837]

Polyethylene Terephthalate Film, Sheet, and Strip (PET Film) From Taiwan: Extension of Time Limit for the Preliminary Results of the Antidumping Duty Administrative Review

AGENCY: Import Administration, International Trade Administration, Department of Commerce.

DATES: Effective Date: March 27, 2012.

FOR FURTHER INFORMATION CONTACT: Gene Calvert or Jun Jack Zhao, AD/CVD Operations, Office 6, Import Administration, International Trade Administration, U.S. Department of Commerce, 14th Street and Constitution Avenue NW., Washington, DC 20230; telephone: (202) 482-3586 or (202) 482-1396, respectively.

SUPPLEMENTARY INFORMATION:

Background

On August 26, 2011, the Department of Commerce (the Department) initiated the administrative review regarding the antidumping duty order on PET Film from Taiwan covering the period July 1, 2010 through June 30, 2011. See Initiation of Antidumping and Countervailing Duty Administrative Reviews and Requests for Revocation in Part, 76 FR 53404 (August 26, 2011). This review covers two producers and/or exporters of the subject merchandise to the United States: Nan Ya Plastics Corporation, Ltd. (Nan Ya), and Shinkong Synthetic Fibers Corporation (Shinkong). The current deadline for the preliminary results of review is April 1, 2012.

Extension of Time for Preliminary Results

Pursuant to section 751(a)(3)(A) of the Tariff Act of 1930, as amended (the Act), the Department shall make a preliminary determination in an administrative review of an antidumping duty order within 245 days after the last day of the anniversary month of the date of publication of the order. The Act further provides, however, that the Department may extend that 245-day period to 365 days if it determines that it is not practicable to complete the review within the foregoing time period.

The Department finds that it is not practicable to complete the preliminary results of the administrative review of PET Film from Taiwan within this time limit. The Department requires additional time to evaluate the questionnaire responses from Nan Ya and Shinkong in order to conduct a thorough analysis of all information on the record, including possible cost and affiliation issues. Therefore, in accordance with section 751(a)(3)(A) of the Act, the Department is extending the time period for the completion of the preliminary results of this review from 245 days to 365 days; i.e., from April 1, 2012, until July 30, 2012.

This notice is issued and published in accordance with sections 751(a)(3)(A) and 771(i)(1) of the Act.

Dated: March 21, 2012.
Christian Marsh,
Deputy Assistant Secretary for Antidumping and Countervailing Duty Operations.

[FR Doc. 2012-7342 Filed 3-26-12; 8:45 am]

BILLING CODE 3510-DS-P